POSTAL SERVICE

Product Change—Priority Mail Express, Priority Mail, and USPS Ground Advantage Negotiated Service Agreements; Priority Mail and USPS Ground Advantage Negotiated Service Agreements; Priority Mail Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: August 27, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated service agreement product category and no. | MC docket no. | K Docket no.
08/18/25 | PME-PM-GA 1400 | MC2025-1622 | K2025-1614
08/18/25 | PM-GA 816 | MC2025-1623 | K2025-1615
08/18/25 | PM-GA 817 | MC2025-1624 | K2025-1616
08/18/25 | PM-GA 818 | MC2025-1625 | K2025-1617
08/19/25 | PM-GA 819 | MC2025-1626 | K2025-1618
08/19/25 | PM-GA 820 | MC2025-1627 | K2025-1619
08/19/25 | PM-GA 821 | MC2025-1628 | K2025-1620
08/19/25 | PM 919 | MC2025-1629 | K2025-1621
08/20/25 | PM-GA 822 | MC2025-1630 | K2025-1622
08/20/25 | PM-GA 823 | MC2025-1631 | K2025-1623
08/20/25 | PM-GA 824 | MC2025-1632 | K2025-1624
08/20/25 | PM 920 | MC2025-1634 | K2025-1625
08/21/25 | PM-GA 825 | MC2025-1635 | K2025-1626
08/22/25 | PME-PM-GA 1401 | MC2025-1638 | K2025-1629
08/22/25 | PM 921 | MC2025-1636 | K2025-1627
08/22/25 | PM-GA 826 | MC2025-1637 | K2025-1628

Documents are available at www.prc.gov.

Sean C. Robinson,
Attorney, Corporate and Postal Business Law.

[FR Doc. 2025-16369 Filed 8-26-25; 8:45 am]

BILLING CODE 7710-12-P